DEPARTMENT OF TRANSPORTATION

Federal Aviation Administration

[Docket No. FAA-2016-6772; Summary Notice No. -2022-03]

Petition for Exemption; Summary of Petition Received; Cobalt Air, LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before February 22, 2022.

ADDRESSES: Send comments identified by docket number FAA-2016-6772 using any of the following methods:

• Federal eRulemaking Portal: Go to https://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Sean O'Tormey at 202-267-4044, Office of Rulemaking, Federal Aviation Administration, 800 Independence Avenue SW, Washington, DC 20591.

Timothy R. Adams,
Deputy Executive Director, Office of Rulemaking.

Petition for Exemption

Docket No.: FAA-2016-6772.

Petitioner: Cobalt Air, LLC.

Section(s) of 14 CFR Affected: § 135.419(a).

Description of Relief Sought: Petitioner Cobalt Air, LLC seeks an exemption from the exclusive use requirement referenced in § 135.419(a). Because the FAA has not previously granted exemptions from the exclusive use requirement referenced in § 135.419(a), the FAA seeks comments on the request for relief from § 135.419(a) for the Pilatus PC-12 aircraft. See Petitioner's First Amended Request for Exemption and Request for Consolidation with Pending Request for Reconsideration of Denial (June 4, 2019), available at https://www.regulations.gov/document/FAA-2016-6772-0004.

[FR Doc. 2022-02116 Filed 2-1-22; 8:45 am]

BILLING CODE 4910-13-P